DEPARTMENT OF THE TREASURY

Internal Revenue Service

26 CFR Parts 1 and 602

[TD 9171]

RIN 1545-AY87; 1545-BC03

New Markets Tax Credit; Correction

AGENCY: Internal Revenue Service (IRS), Treasury.

ACTION: Correction to final regulations.

SUMMARY: This document contains corrections to final regulations (TD 9171), that were published in the Federal Register on Tuesday, December 28, 2004 (69 FR 77625) relating to the new markets tax credit under section 45D.

DATES: This correction is effective December 28, 2004.

FOR FURTHER INFORMATION CONTACT: Paul F. Handleman or Lauren R. Taylor, (202) 622-3040 (not a toll-free number).

SUPPLEMENTARY INFORMATION:

Background

The final regulations (TD 9171) that are the subject of these corrections are under section 45D of the Internal Revenue Code.

Need for Correction

As published, TD 9171 contains errors that may prove to be misleading and are in need of clarification.

Correction of Publication

Accordingly, the publication of the final regulations (TD 9171), that were the subject of FR Doc. 04-28325, is corrected as follows:

1. On page 77626, column 3, in the preamble, last full paragraph under paragraph heading “Qualified Active Low-Income Community Business”, is removed.

2. On page 77627, column 1, in the preamble under paragraph heading “Recapture”, first paragraph, line 21 from the top of the column, the language, “taxable year will be not treated as a” is corrected to read “taxable year will not be treated as a”.

Cynthia E. Grigsby,
Acting Chief, Publications and Regulations Branch, Legal Processing Division, Associate Chief Counsel, (Procedures and Administration).

[FR Doc. 05-1551 Filed 1-27-05; 8:45 am]

BILLING CODE 4830-01-P